FARM CREDIT ADMINISTRATION

12 CFR Part 602

RIN 3052-AD18

Releasing Information; Availability of Records of the Farm Credit Administration; FOIA Fees

AGENCY: Farm Credit Administration.

ACTION: Notice of effective date.

SUMMARY: The Farm Credit Administration (FCA or Agency) issued a final rule amending its regulations to reflect changes to the Freedom of Information Act (FOIA). The FOIA Improvement Act of 2016 requires FCA to amend its FOIA regulations to extend the deadline for administrative appeals, to add information on dispute resolution services, and to amend the way FCA charges fees. In accordance with the law, the effective date of the rule is no earlier than 30 days from the date of publication in the Federal Register during which either or both Houses of Congress are in session.

DATES: Effective date: Under the authority of 12 U.S.C. 2252, the regulation amending 12 CFR part 602 published on September 15, 2016 (81 FR 63365) is effective December 9, 2016.

FOR FURTHER INFORMATION CONTACT:

Michael T. Wilson, Policy Analyst, Office of Regulatory Policy, Farm Credit Administration, McLean, VA 22102-5090, (703) 883-4124, TTY (703) 883-4056, or

Autumn Agans, Attorney-Advisor, Office of General Counsel, Farm Credit Administration, McLean, VA 22102-5090, (703) 883-4020, TTY (703) 883-4056.

SUPPLEMENTARY INFORMATION: The Farm Credit Administration (FCA or Agency) issued a final rule amending its regulations to reflect changes to the Freedom of Information Act (FOIA). The FOIA Improvement Act of 2016 requires FCA to amend its FOIA regulations to extend the deadline for administrative appeals, to add information on dispute resolution services, and to amend the way FCA charges fees. In accordance with 12 U.S.C. 2252, the effective date of the final rule is no earlier than 30 days from the date of publication in the Federal Register during which either or both Houses of Congress are in session. Based on the records of the sessions of Congress, the effective date of the regulations is December 9, 2016. (12 U.S.C. 2252(a)(9) and (10))

Dated: December 6, 2016.
Dale L. Aultman,
Secretary, Farm Credit Administration Board.

[FR Doc. 2016-29555 Filed 12-8-16; 8:45 am]

BILLING CODE 6705-01-P